DEPARTMENT OF HEALTH AND HUMAN SERVICES

National Institutes of Health

National Heart, Lung, and Blood Institute; Amended Notice of Meeting

Notice is hereby given of a change in the meeting of the National Heart, Lung, and Blood Institute Special Emphasis Panel, Loan Repayment Program Review, which was published in the Federal Register on January 11, 2011, FR 2011-583.

This meeting was originally scheduled for February 1, 2011 but will take place on May 4, 2011. The meeting is closed to the public.

Dated: March 15, 2011.
Jennifer S. Spaeth,
Director, Office of Federal Advisory Committee Policy.

[FR Doc. 2011-6572 Filed 3-18-11; 8:45 am]

BILLING CODE 4140-01-P